STATE JUSTICE INSTITUTE

State Justice Institute Board of Directors Meeting, Notice

AGENCY: State Justice Institute (SJI).

ACTION: Notice of meeting.

SUMMARY: The purpose of this meeting is to consider grant applications for the 3rd quarter of fiscal year (FY) 2025, and other business.

DATES: The SJI Board of Directors will be meeting on Monday, June 2, 2025 at 1 p.m. ET.

ADDRESSES: Maryland Judicial Center, 187 Harry S. Truman Parkway, Annapolis, MD.

FOR FURTHER INFORMATION CONTACT: Jonathan Mattiello, Executive Director, State Justice Institute, 12700 Fair Lakes Circle, Suite 340, Fairfax, VA 22033, 703-660-4979, contact@sji.gov.

(Authority: 42 U.S.C. 10702(f))

Jonathan D. Mattiello,
Executive Director.

[FR Doc. 2025-08343 Filed 5-12-25; 8:45 am]

BILLING CODE 6820-SC-P